DEPARTMENT OF HEALTH AND HUMAN SERVICES

National Institutes of Health

National Cancer Institute; Amended Notice of Meeting

Notice is hereby given of a change in the meeting of the National Cancer Institute Clinical Trials and Translational Research Advisory Committee, Translational Research Strategy Subcommittee, June 19, 2019, 10 a.m. to 11 a.m. which was published in the Federal Register on May 24, 2019, 84 FR 24166.

This meeting notice is amended to change the meeting date and time of the Translational Research Strategy Subcommittee from June 19, 2019 from 10 a.m. to 11 a.m. to July 8, 2019 from 4 p.m. to 5 p.m. The meeting is open to the public.

Dated: June 4, 2019.
Melanie J. Pantoja,
Program Analyst, Office of Federal Advisory Committee Policy.

[FR Doc. 2019-12070 Filed 6-7-19; 8:45 am]

BILLING CODE 4140-01-P